DEPARTMENT OF HOUSING AND URBAN DEVELOPMENT

[Docket No. FR-5480-N-02]

Notice of Submission of Proposed Information Collection to OMB; Housing Discrimination Information Form

AGENCY: Office of the Chief Information Officer, HUD.

ACTION: Notice.

SUMMARY: The proposed information collection requirement described below has been submitted to the Office of Management and Budget (OMB) for review, as required by the Paperwork Reduction Act. The Department is soliciting public comments on the subject proposal.

The Housing Discrimination Information Form (HUD-903.1) is necessary for the collection of pertinent information from persons or entities who wish to file housing discrimination complaints with HUD under the Fair Housing Act of 1968 (Act), as amended [42 U.S.C. 3601 et seq.].

The Housing Discrimination Information Form (“Form”) provides for uniformity and easy use by the person filing the complaint. The Form is used to collect information needed to contact aggrieved persons, and for verifying HUD's authority [“jurisdiction”] to investigate complaints under the Act. This information is subsequently used to notify persons or entities that have been accused of engaging in discriminatory housing practices [“respondents”], as required under 42 U.S.C. 3610(1)(B)(ii) of the Act, and under 24 CFR 103.202(a) of HUD's Regulation implementing the Act.

The Form may be submitted to HUD by mail, electronically via the Internet, or presented in person to HUD's Office of Fair Housing and Equal Opportunity (FHEO). HUD/FHEO staff uses this information collection as a source of pertinent data for the Title Eight Automated Paperless Office Tracking System (“TEAPOTS”), HUD's automated Fair Housing Act complaint processing database. FHEO staff will use the information provided to contact aggrieved persons; to make initial assessments regarding HUD's authority (jurisdiction) to investigate allegations of unlawful housing discrimination; to formally notify any persons and entities who have been accused of violating the Act; and to prepare for conducting administrative complaint investigations.

DATES: Comments Due Date: February 9, 2011.

ADDRESSES: Interested persons are invited to submit comments regarding this proposal. Comments should refer to the proposal by name and/or OMB Approval Number (2529-0011) and should be sent to: HUD Desk Officer, Office of Management and Budget, New Executive Office Building, Washington, DC 20503; fax: 202-395-5806. E-mail OIRA_Submission@omb.eop.gov.

FOR FURTHER INFORMATION CONTACT: Colette Pollard, Reports Management Officer, QDAM, Department of Housing and Urban Development, 451 Seventh Street, SW., Washington, DC 20410; e-mail Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Housing Discrimination Information Form.

OMB Approval Number: 2529-0011.

Form Numbers: HUD 903.1 (English), HUD 903.1A (Spanish), HUD 903-1B (Chinese), HUD 903.1F (Vietnamese), HUD 903.1K (Korean), HUD 903.1AR (Arabic), HUD 903.1CAM (Cambodian), HUD 903.1R (Russian), HUD 903.-1 (Somali).

Description of the Need for the Information and Its Proposed Use:

The Housing Discrimination Information Form (HUD-903.1) is necessary for the collection of pertinent information from persons or entities who wish to file housing discrimination complaints with HUD under the Fair Housing Act of 1968 (Act), as amended [42 U.S.C. 3601 et seq.].

The Housing Discrimination Information Form (“Form”) provides for uniformity and easy use by the person filing the complaint. The Form is used to collect information needed to contact aggrieved persons, and for verifying HUD's authority [“jurisdiction”] to investigate complaints under the Act. This information is subsequently used to notify persons or entities that have been accused of engaging in discriminatory housing practices [“respondents”], as required under 42 U.S.C. 3610(1)(B)(ii) of the Act, and under 24 CFR 103.202(a) of HUD's Regulation implementing the Act.

The Form may be submitted to HUD by mail, electronically via the Internet, or presented in person to HUD's Office of Fair Housing and Equal Opportunity (FHEO). HUD/FHEO staff uses this information collection as a source of pertinent data for the Title Eight Automated Paperless Office Tracking System (“TEAPOTS”), HUD's automated Fair Housing Act complaint processing database. FHEO staff will use the information provided to contact aggrieved persons; to make initial assessments regarding HUD's authority (jurisdiction) to investigate allegations of unlawful housing discrimination; to formally notify any persons and entities who have been accused of violating the Act; and to prepare for conducting administrative complaint investigations.

Members of Affected Public: Individuals or households; businesses or other for-profit, not-for-profit institutions; State, Local or Tribal Governments.

Frequency of Submission: On occasion.

Total Estimated Burden Hours: 9,405.

Status: Extension of a currently approved collection.

Authority: Section 3507 of the Paperwork Reduction Act of 1995, 44 U.S.C. 35, as amended.

Dated: January 3, 2011.
Colette Pollard,
Departmental Reports Management Officer, Office of the Chief Information Officer.

[FR Doc. 2011-289 Filed 1-7-11; 8:45 am]

BILLING CODE 4210-67-P